SMALL BUSINESS ADMINISTRATION

[Disaster Declaration # 11264 and # 11265]

Iowa Disaster Number IA-00015

AGENCY: U.S. Small Business Administration.

ACTION: Amendment 14.

SUMMARY: This is an amendment of the Presidential declaration of a major disaster for the State of Iowa (FEMA-1763-DR), dated 05/27/2008.

Incident: Severe Storms, Tornadoes, and Flooding.

Incident Period: 05/25/2008 through 08/13/2008.

DATES: Effective Date: 09/25/2008.

Physical Loan Application Deadline Date: 10/31/2008.

EIDL Loan Application Deadline Date: 02/27/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Iowa, dated 05/27/2008 is hereby amended to extend the deadline for filing applications for physical damages as a result of this disaster to 10/31/2008.

All other information in the original declaration remains unchanged.

(Catalog of Federal Domestic Assistance Numbers 59002 and 59008)

Herbert L. Mitchell,
Associate Administrator for Disaster Assistance.

[FR Doc. E8-23462 Filed 10-3-08; 8:45 am]

BILLING CODE 8025-01-P